INTERNATIONAL TRADE COMMISSION

[Investigation Nos. 701-TA-405-406 and 408 and 731-TA-899-901 and 906-908 (Fourth Review)]

Hot-Rolled Steel Products From China, India, Indonesia, Taiwan, Thailand, and Ukraine; Notice of Commission Determination To Conduct Full Five-Year Reviews

AGENCY: United States International Trade Commission.

ACTION: Notice.

SUMMARY: The Commission hereby gives notice that it will proceed with full reviews pursuant to the Tariff Act of 1930 to determine whether revocation of the countervailing duty orders on hot-rolled steel from India, Indonesia, and Thailand and revocation of the antidumping duty orders on hot-rolled steel from China, India, Indonesia, Taiwan, Thailand, and Ukraine would be likely to lead to continuation or recurrence of material injury within a reasonably foreseeable time. A schedule for the reviews will be established and announced at a later date.

DATES: October 4, 2024

FOR FURTHER INFORMATION CONTACT: Caitlyn Costello (202-205-2058), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

For further information concerning the conduct of these reviews and rules of general application, consult the Commission's Rules of Practice and Procedure, part 201, subparts A through E (19 CFR part 201), and part 207, subparts A, D, E, and F (19 CFR part 207).

SUPPLEMENTARY INFORMATION: On October 4, 2024, the Commission determined that it should proceed to full reviews in the subject five-year reviews pursuant to section 751(c) of the Tariff Act of 1930 (19 U.S.C. 1675(c)).¹ The Commission found that the domestic industry party group response to its notice of institution (89 FR 54528, July 1, 2024) was adequate and that the respondent interested party group responses were inadequate, but the Commission found that other circumstances warranted conducting full reviews. A record of the Commissioners' votes will be available from the Office of the Secretary and at the Commission's website.

¹ Commissioner Rhonda Schmidtlein dissented and voted to expedite these reviews.

Authority: These reviews are being conducted under authority of title VII of the Tariff Act of 1930; this notice is published pursuant to § 207.62 of the Commission's rules.

By order of the Commission.
Issued: October 15, 2024.
Lisa Barton,
Secretary to the Commission.

[FR Doc. 2024-24222 Filed 10-21-24; 8:45 am]

BILLING CODE 7020-02-P